FEDERAL COMMUNICATIONS COMMISSION

[EB Docket No. 04-296, PS Docket No. 15-94, FCC 19-57; FR 16456]

Agency Information Collection Activities; Proposals, Submissions, and Approvals: Emergency Alert System

AGENCY: Federal Communications Commission.

ACTION: Notice.

SUMMARY: The Federal Communications Commission (FCC) has received Office of Management and Budget (OMB) approval for the following public information collections pursuant to the Paperwork Reduction Act of 1995 (44 U.S.C. 3501-3520).

FOR FURTHER INFORMATION CONTACT: David Munson, Attorney Advisor, Public Safety and Homeland Security Bureau, at (202) 418-2921, or by email at David.Munson@fcc.gov.

SUPPLEMENTARY INFORMATION: This document announces that, on December 26, 2019, OMB approved, until December 31, 2022, the information collection requirements associated with the revised testing requirements for Satellite Digital Audio Radio Service (SDARS) providers contained in the Commission's Order in EB Docket No. 04-296 and PS Docket No. 15-94, FCC 19-57, adopted on June 25, 2019, and released on June 27, 2019 (the Order has not yet been published in the Federal Register).

If you have any comments on the burden estimates listed below, or how the Commission can improve the collections and reduce any burdens caused thereby, please contact Nicole Ongele, Federal Communications Commission, Room 1-A620, 445 12th Street SW, Washington, DC 20554. Please include the OMB Control Number, 3060-0207, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

OMB Control Number: 3060-0207.

OMB Approval Date: December 26, 2019.

OMB Expiration Date: December 31, 2022.

Title: Part 11, Emergency Alert System, (EAS), Order, FCC 19-57.

Form Number: N/A.

Respondents: Business and other for-profit entities, Not-for-profit institutions, and State, Local and Tribal Government.

Number of Respondents and Responses: 63,084 respondents; 3,588,830 responses.

Estimated Time per Response: 0.017 hours-100 hours for the entire collection; for the newly dopted requirements the estimated time per response is 0.017-0.68 hours.

Frequency of Response: Recordkeeping and third party disclosure requirements.

Obligation to Respond: Mandatory. The statutory authority for this information collection is contained in sections 1, 2, 4(i), 4(o), 301, 303(r), 303(v), 307, 309, 335, 403, 624(g),706, and 715 of the Communications Act of 1934, as amended, 47 U.S.C. 151, 152, 154(i), 154(o), 301, 303(r), 303(v), 307, 309, 335, 403, 544(g), 606, and 615.

Total Annual Burden: 140,751 hours.

Total Annual Cost: No Cost.

Nature and Extent of Confidentiality: An assurance of confidentiality is not offered because this information collection does not require the collection of personally identifiable information (PII) from individuals.

Privacy Act Impact Assessment: No impact(s).

Needs and Uses: Section 11.61 of the Commission's Part 11 (EAS) rules, 47 CFR 11.61, specifies weekly, monthly and periodic testing requirements with which entities subject to the EAS rules must comply. The rules adopted in the Order harmonize the testing requirements that apply to SDARS providers with those that apply to Direct Broadcast Satellite (DBS) providers primarily on grounds that these services are technologically similar, and that the underlying purpose of the testing rules will continue to be fully realized by applying the weekly and monthly DBS testing requirements to SDARS providers.

Federal Communications Commission.
Marlene Dortch,
Secretary, Office of the Secretary.

[FR Doc. 2020-02149 Filed 2-5-20; 8:45 am]

BILLING CODE 6712-01-P